FEDERAL COMMUNICATIONS COMMISSION

[DA 08-752]

Media Bureau Seeks Comments on Possible Changes to FCC Forms 395-A and 395-B

AGENCY: Federal Communications Commission.

ACTION: Notice.

SUMMARY: In this document, the Media Bureau seeks comment on possible changes to its annual reporting forms that request certain employee data from multichannel video programming distributors (“MVPDs”) (FCC Form 395-A) (OMB Control No. 3060-0095) and broadcasters (FCC Form 395-B) (OMB Control No. 3060-0390).

DATES: Comments are due May 22, 2008; Reply comments are due June 6, 2008.

ADDRESSES: You may submit comments, identified by MM Docket No. 98-204, by any of the following methods: (1) The Commission's Electronic Comment Filing System (ECFS), (2) the Federal Government's eRulemaking Portal, or (3) by filing paper copies. See Electronic Filing of Documents in Rulemaking Proceedings, 63 FR 24121 (May 1, 1998).

Electronic Filers: Comments and reply comments may be filed electronically using the Internet by accessing the ECFS: http://www.fcc.gov/cgb/ecfs/ or the Federal eRulemaking Portal: http://www.regulations.gov. Filers should follow the instructions provided on the Web site for submitting comments. For ECFS filers, in completing the transmittal screen, filers should include their full name, U.S. Postal service mailing address, and the applicable docket number: MM Docket No. 98-204. Parties may also submit an electronic comment by Internet e-mail. To get filing instructions, filers should send an e-mail to ecfs@fcc.gov, and include the following words in the body of the message: “get form”. A sample form and instructions will be sent in response.

Paper filers: Parties who choose to file by paper must file an original and four copies of each filing. Filings can be sent by hand or messenger delivery, by commercial overnight courier, or by first-class or overnight U.S. Postal Service mail (although we continue to experience delays in receiving U.S. Postal Service mail). All filings must be addressed to the Commission's Secretary, Office of the Secretary, Federal Communications Commission.

The Commission's contractor will receive hand-delivered or messenger-delivered paper filings for the Commission's Secretary at 236 Massachusetts Avenue, NE., Suite 110, Washington, DC 20002. The filing hours at this location are 8 a.m. to 7 p.m., on business days. All hand deliveries must be held together with rubber bands or fasteners. Any envelopes must be disposed of before entering the building. Commercial overnight mail (other than U.S. Postal Service Express Mail and Priority Mail) must be sent to 9300 East Hampton Drive, Capitol Heights, MD 20743. U.S. Postal Service first-class, Express, and Priority mail should be addressed to 445 12th Street, SW., Washington, DC 20554.

People with Disabilities: To request information in accessible formats for people with disabilities (Braille, large print, electronic files, and audio format), send an e-mail to fcc504@fcc.gov or call the FCC's Consumer and Governmental Affairs Bureau at (202) 418-0530 (Voice), (202) 418-0432 (TTY).

FOR FURTHER INFORMATION CONTACT: Lewis Pulley of the Policy Division, Media Bureau, at (202) 418-1450.

SUPPLEMENTARY INFORMATION: In Review of the Commission's Broadcast and Cable Equal Opportunity Rules and Policies, Third Report and Order and Fourth Notice of Proposed Rulemaking, 69 FR 34950, June 23, 2004 (19 FCC Rcd 9973 (2004)), the Commission stated that FCC Forms 395-A and 395-B conformed to the racial and employment categories contained in the then-existing Form EEO-1 Employer Information Report issued by the Equal Employment Opportunity Commission (“EEOC”). It noted that the EEOC had proposed to revise its EEO-1 form to incorporate new racial and employment categories adopted by the Office of Management and Budget (“OMB”), and that, when the revised EEO-1 form was released, the Commission would review its forms to see what changes were needed to comply with the new OMB standards, and whether it could so conform those forms to those standards consistent with Sections 334 and 634 of the Communications Act of 1934, as amended (the “Act”). With the EEOC's release of the revised EEO-1 form incorporating revised racial and employment categories, the Media Bureau has conducted that review, and hereby seeks public comment on whether it should so incorporate the EEOC revised standards and whether such changes are consistent with Sections 334 and 634 of the Act. The revised EEO-1 form, which specifies these categories at Section D, and the Instruction Booklet to the form, which contains the definition of each such category, are attached to the Commission's Public Notice, which can be accessed at http://www.fcc.gov/mb/policy/eeo.

FCC Notice Required by the Paperwork Reduction Act

FCC Form 395-A and FCC Form 395-B are approved under OMB control numbers 3060-0095 and 3060-0390, respectively. Remember—you are not required to respond to a collection of information sponsored by the Federal government, and the government may not conduct or sponsor this collection, unless it displays a currently valid OMB control number or if we fail to provide you with this notice.

THE FOREGOING NOTICE IS REQUIRED BY THE PAPERWORK REDUCTION ACT OF 1995, PUBLIC LAW 104-13, OCTOBER 1, 1995, 44 U.S.C. SECTION 3507.

Federal Communications Commission.
Steven A. Broeckaert,
Deputy Division Chief, Media Bureau.

[FR Doc. E8-8458 Filed 4-18-08; 8:45 am]

BILLING CODE 6712-01-P